SURFACE TRANSPORTATION BOARD

[Docket No. AB 33 (Sub-No. 336X)]

Union Pacific Railroad Company—Abandonment Exemption—in Douglas County, Neb.

On November 27, 2018, Union Pacific Railroad Company (UP) filed with the Surface Transportation Board (Board) a petition under 49 U.S.C. 10502 for exemption from the provisions of 49 U.S.C. 10903 to abandon an approximately 0.28-mile rail line known as the Omaha Belt Industrial Lead, extending from milepost 485.55 near Grover Street to milepost 485.27, the point switch on the Wimmer Wye just west of Dahlman Avenue, all in Omaha, Douglas County, Neb. (the Line). The Line traverses United States Postal ZIP Codes 68105 and 68107.

UP states that it seeks to abandon the Line and sell the track and property to Darling Ingredients, the only shipper on the Line, which plans to use the track and property to support expansion of its plant, and that UP will continue to serve Darling Ingredients in substantially the same manner as it does today.

According to UP, based on the information in its possession, the Line does not contain federally granted rights-of-way, and any documentation in UP's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by March 15, 2019.

Any offer of financial assistance (OFA) under 49 CFR 1152.27(b)(2) will be due no later than 10 days after service of a decision granting the petition for exemption.¹ Each OFA must be accompanied by a $1,800 filing fee. See 49 CFR 1002.2(f)(25).

¹ The Board modified its OFA procedures effective July 29, 2017. Among other things, the OFA process now requires potential offerors in all abandonment and discontinuance proceedings to file a formal expression of intent to file an offer. The process also requires potential offerors, in their formal expression of intent, to make a preliminary financial responsibility showing based on a calculation using information contained in the carrier's filing and publicly available information. See Offers of Financial Assistance, EP 729 (STB served June 29, 2017); 82 FR 30,997 (July 5, 2017).

All interested persons should be aware that, following abandonment, the Line may be suitable for other public use, including interim trail use. Any request for a public use condition under 49 CFR 1152.28 or for trail use/rail banking under 49 CFR 1152.29 will be due no later than January 3, 2019. Each trail request must be accompanied by a $300 filing fee. See 49 CFR 1002.2(f)(27).

All filings in response to this notice must refer to Docket No. AB 33 (Sub-No. 336X) and must be sent to: (1) Surface Transportation Board, 395 E Street SW, Washington, DC 20423-0001; and (2) Jeremy M. Berman, Union Pacific Railroad Company, 1400 Douglas Street, MS #1580, Omaha, NE 68179. Replies to the petition are due on or before January 3, 2019.

Persons seeking further information concerning abandonment procedures may contact the Board's Office of Public Assistance, Governmental Affairs, and Compliance (OPAGAC) at (202) 245-0238 or refer to the full abandonment regulations at 49 CFR part 1152. Questions concerning environmental issues may be directed to the Board's Office of Environmental Analysis (OEA) at (202) 245-0305. Assistance for the hearing impaired is available through the Federal Relay Service (FRS) at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our website at www.stb.gov.

Decided: December 12, 2018.
By the Board, Scott M. Zimmerman, Acting Director, Office of Proceedings.
Brendetta Jones,
Clearance Clerk.

[FR Doc. 2018-27261 Filed 12-14-18; 8:45 am]

BILLING CODE 4915-01-P